DEPARTMENT OF EDUCATION

[CFDA No.: 84.195N]

English Language Acquisition: National Professional Development Program; Notice Inviting Applications for New Awards for Fiscal Year (FY) 2002

Note to Applicants

This notice is a complete application package. Together with the statute authorizing the program and the applicable regulations governing this program, including the Education Department General Administrative Regulations (EDGAR), this notice contains all of the information, application forms, and instructions needed to apply for a grant under this program.

Purpose of Program

This program provides grants for professional development activities that will improve classroom instruction for limited English proficient (LEP) children and assist educational personnel working with such children to meet high professional standards, including standards for certification and licensure as teachers who work in language instruction educational programs or serve LEP students.

Eligible Applicants: One or more institutions of higher education (IHEs) that have entered into consortia arrangements with local educational agencies (LEAs) or State educational agencies (SEAs).

Deadline for Transmittal of Applications: June 6, 2002.

Deadline for Intergovernmental Review: July 8, 2002.

Available Funds: $37.5 million.

Estimated Range of Awards: $200,000-$300,000 per year for single IHEs applying in consortia with LEAs or SEAs. $300,000-$400,000 per year for multiple IHEs applying in consortia with LEAs or SEAs.

Estimated Average Size of Awards: $250,000 per year.

Estimated Number of Awards: 150.

Project Period: Up to 60 Months.

Page Limit: The application narrative (Part III of the application) is where you, the applicant, address the selection criteria reviewers use to evaluate your application. You must limit the application narrative to the equivalent of no more than 35 pages, using the following standards:

• A page is 8.5 X 11″, on one side only, with 1″ margins at the top, bottom, and both sides.

• Double space (no more than three lines per vertical inch) all text in the application narrative, including titles, headings, footnotes, quotations, references, and captions, as well as all text in charts, tables, figures, and graphs, except that within the 35-page limit you may include five pages or less of single-spaced text in one chart describing the management plan.

• Use a font that is either 12-point or larger or no smaller than 10 pitch (characters per inch).

The page limit does not apply to Part I, the cover sheet; Part II, the budget section, including budget justification and the cost itemization; Part IV, the assurances and certifications; the table of contents, or the one-page abstract, or the letters attached to the one-page abstract signed by consortia representatives. However you must include all of the application narrative in Part III.

If, to meet the page limit, you use more than one side of the page, you use a larger page, or you use a print size, spacing, or margins smaller than the standards in this notice, we will reject your application.

Applicable Regulations

(a) The Education Department General Administrative Regulations (EDGAR) in 34 CFR Parts 74, 75, 77, 79, 80, 81, 82, 85, 86, 97, 98 and 99.

Description of Program

The statutory authorization for this program, and the application requirements that apply to this competition, are set out in section 3131 of Public Law 107-110, the Elementary and Secondary Education Act of 1965 as amended by the No Child Left Behind Act of 2001.

Grants awarded under this program may be used for preservice professional development programs that will assist local schools and IHE's to upgrade the qualifications and skills of educational personnel who are not certified or licensed, especially educational paraprofessionals; for the development of curricula appropriate to the needs of the consortia participants involved; and in conjunction with other Federal need-based student financial assistance programs, for financial assistance, and costs related to tuition, fees, and books for enrolling in courses required to complete the degree involved, to meet certification or licensing requirements for teachers who work in language instruction educational programs or serve limited English proficient children.

Priorities

Competitive Priority

Under 34 CFR 75.105(c)(2)(i), we award 15 points to applications that meet the following priority. These points are in addition to any points the applicant earns under the selection criteria.

IHE's, applying as lead agencies, in consortia with LEAs or SEAs, that are novice grantees, and which propose to assist participants to meet certification requirements for teachers of LEP students. For the purpose of this priority a novice grantee is defined as an institution of higher education that has not received funding since FY 1995 under Title VII of the Elementary and Secondary Education Act or 1965, as amended by the Improving America's Schools Act of 1994 (Pub. L. 103-382, enacted October 20, 1994)

Invitational Priorities

The Secretary is particularly interested in applications that meet the following invitational priorities. However, an application that meets any of these invitational priorities receives no competitive or absolute preference over other applications (34 CFR 75.105(c)(1)).

(a) Applications proposing partnerships involving IHEs experienced in preparing teachers of LEP students, SEAs, and institutions proposing to develop new programs for teachers of LEP students, which may include Hispanic-Serving Institutions, Historically Black Colleges and Universities, and 2-year colleges,

(b) Applications which propose alternative teacher certification programs for individuals with high academic qualifications.

(c) Applications which propose professional development in research-based reading instruction for reading teachers of LEP students, other teachers of LEP students, or school administrators.

(d) Applications which address the needs of schools in rural areas with emerging populations of LEP students.

Waiver of Proposed Rulemaking

In accordance with the Administrative Procedure Act (5 U.S.C. 553), it is the practice of the Department of Education to offer interested parties the opportunity to comment on proposed priorities that are not taken directly from statute. Ordinarily, this practice would have applied to the competitive priority and selection criteria in this notice. Section 437(d)(1) of the General Education Provisions Act (GEPA), however, exempts rules that apply to the first competition under a new program from this requirement. The program covered by this notice, the National Professional Development Program, is a new program that is authorized by the No Child Left Behind Act of 2001, P.L. 107-110. The Secretary, in accordance with section 437(d)(1) of GEPA, in order to ensure timely awards, has decided to forego public comment with respect to the competitive priority and selection criteria. The competitive priority and selection criteria will apply only to the FY 2002 grant competition, unless the Department issues a notice for proposed rulemaking for 2003.

Selection Criteria

The Secretary uses the following selection criteria to evaluate applications for new grants under this competition.

The maximum score for all of these criteria is 100 points.

The maximum score for each criterion is indicated in parentheses.

(a) Need for project. (10 points) (1) The Secretary considers the need for the proposed project.

(2) In determining the need for the proposed project, the Secretary considers the following factors:

(i) The extent to which the applicant has identified specific needs for improving the quality and increasing the quantity of educational personnel to serve LEP students in the targeted schools and districts.

(ii) The extent to which the applicant has coordinated with SEAs and LEAs in identifying needs to be addressed by the proposed project.

(b) Quality of the project design. (40 points) (1) The Secretary considers the quality of the design of the proposed project.

(2) In determining the quality of the design of the proposed project, the Secretary considers the following factors:

(i) The extent to which the project design represents a cohesive plan, which effectively links identified needs, goals, objectives and activities.

(ii) The extent to which the project objectives specify measurable outcomes for the quality and quantity of participants recruited, the progress of participants in completing program requirements, the success of participants in achieving high standards and completing program requirements, the placement and the effectiveness of graduates in the instructional setting, and the improved capacity of the institution to prepare educational personnel to serve LEP students effectively.

(iii) The extent to which project curricula reflect state standards for educational personnel preparing to serve LEP students.

(iv) The extent to which the proposed project will effectively prepare participants who are preservice teachers in the content of subjects they will teach, and prepare all participants in instructional strategies and assessment measures appropriate for LEP students.

(v) The extent to which field practice activities will provide participants with adequate time, guidance, and experience in school settings with LEP students.

(vi) The extent to which the proposed project will be coordinated within the institution and with consortia members and will assist participants to progress effectively through their course of study and obtain employment in schools that serve LEP students.

(vii) The extent to which the proposed selection of participants who are preservice teachers is based on language proficiency in English and a language other than English, if appropriate, academic qualifications, and the demonstrated commitment to work in schools serving LEP students.

(viii) The extent to which the proposed project incorporates research-based instructional practices and professional development practices with demonstrated effectiveness in increasing children's English proficiency, and increasing participants' teaching skills and subject matter knowledge.

(ix) The extent to which the proposed project is designed to improve professional development for all teachers and other educational personnel in the IHE and in the schools to be served.

(c) Quality of the management plan. (20 points) (1) The Secretary considers the quality of the management plan for the proposed project.

(2) In determining the quality of the management plan for the proposed project, the Secretary considers the effectiveness of the management plan in demonstrating how the objectives and activities of the proposed project will be achieved effectively on time, and within budget, including clearly defined responsibilities of staff, timelines, benchmarks, and milestones for accomplished tasks.

(d) Quality of project personnel. (5 points) (1) The Secretary considers the quality of the personnel who will carry out the proposed project.

(2) In determining the quality of project personnel, the Secretary considers the extent to which the applicant encourages applications for employment from persons who are members of groups that have traditionally been underrepresented based on race, color, national origin, gender, age, or disability.

(3) In addition, the Secretary considers the following factor: the qualifications, including relevant training and experience, of key project personnel as required by job descriptions of key personnel.

(e) Quality of the project evaluation. (25 points) (1) The Secretary considers the quality of the evaluation to be conducted of the proposed project.

(2) In determining the quality of the evaluation, the Secretary considers the following factors:

(i) The extent to which the evaluation plan will provide performance feedback on program activities, including participant progress, and permit periodic assessment of participant and project progress toward achieving intended outcomes.

(ii) The extent to which the evaluation will provide data on the quality and quantity of participants recruited, the progress of participants in completing program requirements, the success of participants in achieving high standards and completing project requirements, the placement and the effectiveness of graduates in the instructional setting, and the improved capability of the institution to prepare educational personnel to serve LEP students.

Intergovernmental Review of Federal Programs

This program is subject to the requirements of Executive Order 12372 (Intergovernmental Review of Federal Programs) and the regulations in 34 CFR part 79.

One of the objectives of the Executive order is to foster an intergovernmental partnership and a strengthened federalism. The Executive order relies on processes developed by State and local governments for coordination and review of proposed Federal financial assistance.

If you are an applicant you must contact the appropriate State Single Point of Contact (SPOC) to find out about, and to comply with, the State's process under Executive order 12372.

If you propose to perform activities in more than one State, you should immediately contact the SPOC for each of those States and follow the procedure established in each State under the Executive order. If you want to know the name and address of any SPOC, you may view the latest official SPOC list on the Web site of the Office of Management and Budget at the following address: http://www.whitehouse.gov/omb/grants/spoc.html.

In States that have not established a process or chosen a program for review, State, areawide, regional, and local entities may submit comments directly to the Department.

Any State Process Recommendation and other comments submitted by a SPOC and any comments from State, areawide, regional, and local entities must be mailed or hand-delivered by the date indicated in this notice to the following address: The Secretary, E.O. 12372—CFDA# 84.195N, U.S. Department of Education, FB-6, Room 7E200, 400 Maryland Avenue, SW., Washington, DC 20202-0125.

We will determine proof of mailing under 34 CFR 75.102 (Deadline date for applications). Recommendations or comments may be hand-delivered until 4:30 p.m. (Washington, DC time) on the date indicated in this notice.

Please note that the above address is not the same address as the one to which the applicant submits its completed application. Do not send applications to the above address.

Application Instructions and Forms

The appendix to this notice contains the following forms and instructions plus a statement regarding estimated public reporting burden, a notice to applicants regarding compliance with section 427 of the General Education Provisions Act, questions and answers on this program (located at the end of the notice) and various assurances, certifications, and required documentation:

a. Estimated Public Reporting Burden

b. Application Instructions

c. Nonregulatory Guidance: Questions and Answers

d. Application for Federal Education Assistance (ED 424) and instructions

e. Budget Information

f. Participant Data Form

g. Assurances—Non-Construction Programs (Standard Form 424B) and instructions

h. Certifications Regarding Lobbying; Debarment, Suspension, and Other Responsibility Matters; and Drug-Free Workplace Requirements (ED 80-0013) and instructions

i. Certification Regarding Debarment, Suspension, Ineligibility and Voluntary Exclusion—Lower Tier Covered Transactions (ED 80-0014) and instructions (Note: This form is intended for the use of grantees and should not be transmitted to the Department.)

j. Disclosure of Lobbying Activities (Standard Form LLL) (if applicable) and instructions. The document has been marked to reflect statutory changes

k. Notice to All Applicants (GEPA Requirement) and instructions (OMB No. 1801-0004)

You may submit information on a photocopy of the application and budget forms, the assurances, and the certifications. However, the application form, the assurances, and the certifications must each have an original signature. All applicants must submit one original signed application, including ink signatures on all forms and assurances, and two copies of the application. Please mark each application as “original” or “copy”. We will not award a grant unless we have received a completed application form.

Individuals with disabilities may obtain this document in an alternative format (e.g., Braille, large print, audiotape, or computer diskette) on request to the program contact person listed under FOR FURTHER INFORMATION CONTACT. However, the Department is not able to reproduce in an alternative format the standard forms included in this application package.

Electronic Access to this Document

You may view this document, as well as all other Department of Education documents published in the Federal Register, in text or portable document format (PDF) on the Internet at the following site: www.ed.gov/legislation/FedRegister.

To use PDF you must have Adobe Acrobat Reader, which is available free at this site. If you have questions about using PDF, call the U.S. Government Printing Office toll free at 1-888-293-6498; or in the Washington, DC area at (202) 512-1530.

Note: The official version of this document is the document published in the Federal Register. Free Internet access to the official edition of the Federal Register and the Code of Federal Regulations is available at GPO access at: http://www.access.gpo.gov.nara.index.html

FOR FURTHER INFORMATION CONTACT: Applicants west of the Mississippi River may contact: Brenda Compton-Turner, US Department of Education, 400 Maryland Avenue, SW., Room 5090, Switzer Building, Washington, D.C. 20202-6510. Telephone: (202) 205-9839; E-mail address: Brenda.Turner@ed.gov Applicants east of the Mississippi River may contact: Mahal May, at the address above. Telephone: (202) 205-8727; E-mail address: Mahal.May@ed.gov.

If you use a telecommunications device for the deaf (TDD) you may call the Federal Information Relay Service (FIRS) at 1-800-877-8339.

Instructions for Transmitting Applications

If you want to apply for a grant and be considered for funding you must meet the following deadline requirements:

(a) If You Send Your Application By Mail. You must mail the original and two copies of the application on or before the deadline date. Mail your application to: U.S. Department of Education, Application Control Center, Attention: (CFDA# 84.195N), Room 3671, Regional Office Building 3, 7th and D Streets, SW, Washington, DC 20202-4725.

You must show one of the following as proof of mailing.

(1) A legibly dated U.S. Postal Service postmark.

(2) A legible mail receipt with the date of mailing stamped by the U.S. Postal Service.

(3) A dated shipping label, invoice, or receipt from a commercial carrier.

(4) Any other proof of mailing acceptable to the Secretary.

If you mail an application through the U.S. Postal Service, we do not accept either of the following as proof of mailing:

(1) A private metered postmark.

(2) A mail receipt that is not dated by the U.S. Postal Service.

Note: Due to recent disruptions to normal mail delivery, the Department encourages you to consider using an alternative delivery method (for example, a commercial carrier, such as Federal Express or United Parcel Service; U.S. Postal Service Express Mail; or a courier service) to transmit your application for this competition. If you use an alternative delivery method, please obtain the appropriate proof of mailing under this section (a) “If you Send Your Application by Mail,” then follow the instructions in section (b) “If You Deliver Your Application by Hand.”

(b) If You Deliver Your Application By Hand.—You or your courier must hand-deliver the original and two copies of the application by 4:30 p.m. (Washington, D.C. time) on or before the deadline date. Deliver your application to: U.S. Department of Education, Application Control Center, Attention: (CFDA#84.195N), Room #3671, Regional Office Building #3, 7th and D Streets, SW., Washington, DC.

The Application Control Center accepts application deliveries daily between 8:00 a.m. and 4:30 p.m. (Washington DC time), except Saturdays, Sundays and Federal holidays. The Center accepts application deliveries through the D Street entrance only. A courier delivering an application must show identification to enter the building.

Notes: (1) The U.S. Postal Service does not uniformly provide a dated postmark. Before relying on this method, an applicant should check with its local post office.

(2) If you send your application by mail or you or your courier deliver it by hand, the Application Control Center will mail a Grant Application Receipt Acknowledgment to each applicant. If an applicant fails to receive the notification of application receipt within 15 days from the date of mailing the application, the applicant should call the U.S. Department of Education Application Control Center at (202) 708-9493.

(3) If your application is late, we will notify you that we will not consider the application.

(4) You must indicate on the envelope and—if not provided by the Department—in Item 4 of the Application for Federal Assistance (ED 424 (exp 11/30/2004)) the CFDA number and suffix letter, if any, of the competition under which you are submitting your application.

Program Authority: Section 3131 of Public Law 107-110.

Dated: May 1, 2002.
Maria Hernandez Ferrier,
Acting Director, Office of English Language Acquisition, Language Enhancement and Academic Achievement for Limited English Proficient Students.

Appendix

Instructions for Estimated Public Reporting Burden

According to the Paperwork Reduction Act of 1995, you are not required to respond to a collection of information unless it displays a valid OMB control number. The valid OMB control number for this information collection is OMB No.1885-0550. Expiration Date: April 30, 2004. We estimate the time required to complete this information collection is estimated to average 102 hours per response, including the time to review instructions, search existing data resources, gather the data needed, and complete and review the information collection. If you have any comments concerning the accuracy of the time estimate or suggestions for improving this form, please write to: U.S. Department of Education, Washington, D.C. 20202-4651. If you have any comments or concerns regarding the status of your individual submission of this form, write directly to: Office of English Language Acquisition, Language Enhancement and Academic Achievement for Limited English Proficient Students, U.S. Department of Education, 400 Maryland Avenue, SW., Washington, DC 20202-6510.

Instructions for Application Narrative

Abstract

The narrative section should be preceded by a one-page single-spaced abstract that includes a short description of the project design, project objectives, activities, and competitive and invitational priorities the project proposes to address; the SEAs and LEAs with which you have entered into consortia arrangements; and a description of how the proposed program will not duplicate the activities of other proposed projects under this program or currently funded projects under Subpart 3 of Part A of Title VII of the Elementary and Secondary Education Act of 1965, as amended by the Improving America's Schools Act (Pub L. 103-382). You may attach to the abstract letters acknowledging participation in your consortium signed by representatives of LEAs or SEAS. These will not count against the page limit.

Selection Criteria

The narrative should address fully all aspects of the selection criteria in the order listed and should give detailed information regarding each criterion. Do not simply paraphrase the criteria. Do not include resumes. Instead, provide position descriptions for key personnel. Do not include bibliographies, letters of support, or appendices in your application. Paginate all pages of the narrative. This package includes questions and answers to assist you in preparing the narrative portion of your application.

Table of Contents

The application should include a table of contents listing the various parts of the narrative in the order of the selection criteria. Be sure that the table includes the page numbers where the parts of the narrative are found.

Budget

Budget line items must support the goals and objectives of the proposed project and be directly applicable to the program design and all other project components. A separate budget summary and cost itemization must be provided. Prepare an itemized budget for each year of requested funding. Requested budgets for each of years two through five should not exceed the requested budget for year one. Indirect costs for institutions of higher education, which are the fiscal agents for National Professional Development Program, are limited to the lower of either 8 percent of a modified total direct cost base or the IHE's actual indirect cost agreement. A modified direct cost base is defined as total direct costs less stipends, tuition and related fees and capital expenditures of $5,000 or more. In describing student support costs, distinguish costs for tuition and fees from costs for other stipends.

Final Application Preparation

Use the following checklist to verify that all necessary items are addressed. Prepare one original with an original signature, and include two additional copies. Do not use elaborate bindings or covers. The application package must be delivered to the Application Control Center (ACC) and postmarked by the deadline date published in this notice. Applicants are encouraged to use a courier service to deliver applications.

Checklist for Applicants

The following forms and other items must be included in the application:

1. Application for Federal Assistance (SF 424)

2. Budget Information (ED Form No. 524)

3. Itemized Budget for each year (attached to ED Form No. 524)

4. Participant Data Form

5. Assurances—Non-Construction Programs (SF 424B)

6. Certifications Regarding Lobbying; Debarment, Suspension and Other Responsibility Matters; and Drug-Free Workplace Requirements (ED 80-0013)

7. Certification Regarding Debarment, Suspension, Ineligibility and Voluntary Exclusion—Lower Tier Covered Transactions (ED 80-0014)

8. Disclosure of Lobbying Activities (SF-LLL)

9. GEPA Response

10. Table of Contents

11. One-page single-spaced abstract

12. Application narrative (Not to exceed 35 double-spaced paginated pages, see page limits)

Department of Education

Questions and Answers

What Activities Are Allowable Under the National Professional Development Program?

Allowable activities are those which serve teachers and other educational personnel who are either involved with, or preparing to be involved with, serving students with limited English proficiency. Such activities may include, but are not limited to: Providing career ladder programs for paraprofessionals; Developing program curricula; Collaborating with local school districts in designing high-quality professional development activities for new teachers; Improving teacher training programs to reflect high standards of professionalism; Providing programs to assist regular classroom teachers to meet State certification requirements for teachers of LEP students. Only institutions of higher education, applying in consortia arrangements with one or more local educational agencies or State educational agencies, are eligible to apply for the National Professional Development Program. This means the institution of higher education would be the lead agency and the fiscal agent for the grant.

What Type of Educational Personnel May Be Served Under the National Professional Development Program?

Applicants have flexibility in selecting methods and approaches for training participants; schools and school districts to be served, and types of personnel to be trained. These may include, but are not limited to, career ladder paraprofessionals, new teachers working toward alternative certification, regular classroom teachers working toward ESL or bilingual certification or endorsement, bilingual teachers preparing for recertification. In making choices about schools, types of personnel and training approaches, an applicant should consider the state plan for serving LEP students and the needs of schools and districts it proposes to serve.

May an Applicant Propose Training for More Than One Type of Personnel?

An applicant may propose training for more than one type of educational personnel, for example, career ladder paraprofessionals pursuing degrees and certification and regular classroom teachers working toward ESL endorsement. In determining the number of types of personnel to be trained, applicants should consider the identified needs of the districts to be served and the capacity of the institution to provide services for multiple types of educational personnel. In addition, applicants should also consider that service to multiple types of personnel may require goals, objectives, project activities and evaluation activities for each type of personnel. Applicants are reminded of the 35-page limit.

How Does an Applicant Demonstrate That it Is Not Duplicating Activities of Currently Funded Grants?

An applicant that proposes activities that duplicate those under another proposal under this program or funded under a current grant awarded under subpart 3 of Part A of Title VII of the Elementary and Secondary Education Act of 1965, as amended by the Improving America's Schools Act of 1994 (Pub. L. 103-382) will be rejected. An applicant should describe in the 1-page abstract how the proposed project will extend or expand activities it is currently conducting or that are currently conducted by another entity. Some examples of extended or expanded activities include: Extending services to districts or schools which are currently not served; Implementing a new service delivery model, such as a distance learning program or a professional practice school; Implementing professional development for a new category of training participants, such as paraprofessionals preparing to become teachers.

What Information May Be Helpful in Planning a Budget?

For each of project years two through five, an applicant's requested budget should not exceed the amount of the budget requested for year 1. Project budgets should reflect proposed project activities. It is expected that the major portion of budget costs for National Professional Development Program will be related to costs for student support. In addition to student support costs, budget items may include costs for personnel, supplies or equipment, and other costs to support developmental activities.

What Information May Be Helpful in Preparing a Narrative for the National Professional Development Program?

Technical assistance information on professional development grants is available through the OELA website: www.ed.gov/offices/OELA. In responding to the selection criteria, applicants may wish to consider the following questions as a guide for preparing the application narrative.

• Does the project plan describe specific responsibilities of districts, schools, institutions of higher education, and other partnership organizations in planning, implementing, and evaluating the proposed project? How were teachers, administrators and others involved in planning and designing the project? What resources and support will be provided by each of the contributing partners?

• Does the management plan effectively demonstrate the relationship among project objectives and activities (including benchmarks and milestones), budget expenditures (such as personnel, travel, and supplies) for accomplishing project tasks? Is the information conveyed clearly in a chart or graph?

• Will support services be provided for participants to ensure that they make progress and complete project requirements, such as special academic support, mentoring, enhanced advisement, test preparation, coordinated release time? How will the project coordinate with other departments in the institution and with LEAs to be served or other consortia partners to ensure that services are provided?

• Are coursework and field practice well described? Are expected competencies of participants described? Does the narrative explain how project requirements support state certification requirements and State k-12 instructional standards?

• How will the project improve professional development in the IHE and in the target schools? For example, will project activities result in improved curricula related to preparing all teachers to provide instruction to LEP students, or to strengthening content knowledge of teachers; in improved field practice, assessment of teacher skills, or improved skills of higher education faculty; in better support services for participants?

• How will the project coordinate with other departments in the institution, partner schools, the SEA or national organizations to ensure graduates are placed in a school setting serving LEP students?

• What are the expected outcomes for participant recruitment, participant progress in meeting project requirements, participant success in achieving program standards, graduate effectiveness in the instructional setting, improved professional development in the school or the university? Do objectives include indicators of expected performance? Will the project use multiple measures to assess participant and program effectiveness? What measures will the proposed program use to collect data on the effectiveness of the program in meeting its objectives, such as: field practice assessments, National or State benchmark tests, surveys of graduates, mentor teachers, school administrators, rates of transfer from 2-year to 4-year institutions, graduation rates, placement rates, achievement of k-12 students?

• How will the project assess progress and performance of participants; communicate meaningful, regular and timely feedback to participants? How will the project collect data and report on recruitment, participants' progress in meeting program requirements, participants' success in achieving program standards and graduate placement and effectiveness in the instructional setting? What evaluation questions related to project, participant, graduate effectiveness are proposed to guide the evaluation design?

Other

• Applicants are reminded to consider delivery of applications by courier service to the Application Control Center.

• Applicants applying as novice grantees should indicate their status as novice grantee on item 6 of the Application Face Page and in the 1-page abstract.

BILLING CODE 4000-01-U

[FR Doc. 02-11307 Filed 5-6-02; 8:45 am]

BILLING CODE 4000-01-C